DEPARTMENT OF HEALTH AND HUMAN SERVICES

Centers for Disease Control and Prevention

CDC/ATSDR Tribal Advisory Committee (TAC); Cancellation of Meeting

Notice is hereby given of a change in the meeting of the CDC/ATSDR Tribal Advisory Committee (TAC); March 12, 2020, 9:30 a.m. to 5:30 p.m., EDT; and March 13, 2020, 9:30 a.m. to 5:30 p.m., EDT; CDC, Chamblee Campus, Building 106, Rooms 1A/1B, 4770, Buford Highway, Atlanta, GA 30341-3717, which was published in the Federal Register on January 6, 2020, Volume 85, Number 3, pages 505-506.

This meeting is being canceled in its entirety.

FOR FURTHER INFORMATION CONTACT: CAPT Carmen Clelland, PharmD, MPA, MPH, Director, Office of Tribal Affairs and Strategic Alliances, Center for State, Tribal, Local, and Territorial Support, CDC, 4770 Buford Highway, Mailstop V18-4, Atlanta, GA 30341-3717; Telephone: (404) 498-2205; Email: cclelland@cdc.gov. The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-06247 Filed 3-24-20; 8:45 am]

BILLING CODE 4163-18-P